CORPORATION FOR NATIONAL AND COMMUNITY SERVICE

45 CFR Parts 1204, 1206, 1213, 1229, and 1234

Removal of Regulations for the Former ACTION Agency

AGENCY: Corporation for National and Community Service.

ACTION: Final rule.

SUMMARY: The Corporation for National and Community Service is removing regulations related to programs of its predecessor agency, the ACTION Agency as being obsolete.

DATES: The removal of these regulations is effective as of March 27, 2003.

FOR FURTHER INFORMATION CONTACT: Mr. William L. Hudson, (202) 606-5000, ext. 265.

SUPPLEMENTARY INFORMATION: The National and Community Service Trust Act of 1993, Public Law 103-82, 107 Stat. 785, which amended the National and Community Service Act of 1990, created the Corporation for National and Community Service. This law authorized programs to provide Federal financial assistance to organizations that conducts national service programs, and authorized the transfer of all functions and personnel of the ACTION Agency to the Corporation. Since then, the Corporation has published its own regulations implementing national service programs as authorized under the 1993 amendments to the 1990 Act. Therefore, the Corporation removes these regulations.

List of Regulations

§ 1204 Official Seal.

§ 1206 Grants and contracts-suspension and termination and denial of application for refunding.

§ 1213 ACTION Cooperative Volunteer Program.

§ 1229 Governmentwide debarment and suspension (nonprocurement) and governmentwide requirements for a drug-free workplace (grants).

§ 1234 Uniform Administrative Requirements for Grants and Cooperative Agreements to State and Local Governments.

PARTS 1204, 1206, 1213, 1229 AND 1234—[REMOVED]

For the reasons stated in the preamble, the Corporation for National and Community Service, under the authority of 42 U.S.C. 12501 et. seq, hereby amends 45 CFR Chapter XII by removing parts 1204, 1206, 1213, 1229, and 1234.

Dated: March 21, 2003.
Frank R. Trinity,
General Counsel.

[FR Doc. 03-7335 Filed 3-26-03; 8:45 am]

BILLING CODE 6050-$$-P